DEPARTMENT OF THE INTERIOR

Bureau of Land Management

[NV-010-1430-01; N-63163]

Partial Termination of Segregative Effect, Maggie Creek Exchange N-63163

AGENCY: Bureau of Land Management, Interior.

ACTION: Notice.

SUMMARY: This action partially terminates a segregative effect on the Maggie Creek Exchange N-63163 held by Maggie Creek Ranch LP. The lands (as described below) will be opened to the operation of the public land laws, including location and entry under the mining laws.

EFFECTIVE DATE: June 18, 2001.

FOR FURTHER INFORMATION CONTACT: Susan Elliott, Elko Field Office, 3900 E. Idaho St., Elko, Nevada 89801, 775-753-0200.

SUPPLEMENTARY INFORMATION: The segregative effect for the affected lands was made on February 3, 1999, pursuant to the Federal Land Exchange Facilitation Act of August 20, 1988, which implements the exchange provisions of the Federal Land Policy and Management Act of 1976. The Maggie Creek Land Exchange N-63163, has been modified since the original request for segregation and the herein described parcels were removed from the exchange. The segregative effect is hereby terminated for the following described land located in Elko County:

Mount Diablo Meridian, Nevada

T. 34 N., R. 51 E.,

Sec.12, Lots 1-4, W½E½, W½.

T. 34 N., R. 52 E.,

Sec. 2, Lots 1-4, S½N½, S½;

Sec. 4, Lots 1-4, S½N½, S½;

Sec 6, Lots 1-5, 7, S½NE¼, SE¼NW¼, E½SW¼, SE¼;

Sec 8, All;

Sec 10, All.

T. 35 N., R. 52 E.,

Sec. 2, Lots 3, 4, SW¼NW¼;

Sec. 4, SW¼, SW¼SE¼;

Sec. 8, Lots 1-6, E½E½, SE¼NW¼, W½SW¼;

Sec. 10, S½NW¼, S½;

Sec. 12, E½, S½NW¼, NW¼SW¼, S½SW¼;

Sec. 14, All;

Sec. 16, All;

Sec. 18, E½, E½NW¼;

Sec. 20, All;

Sec. 22, All;

Sec. 24, NE¼, N½NW¼, SW¼NW¼, S½;

Sec. 26, N½, N½SW¼, SW¼SW¼, SE¼;

Sec. 28, SE¼NE¼, W½NW¼, S½;

Sec. 30, E½, SE¼SW¼;

Sec. 32, S½N½, S½;

Sec. 34, NE¼, NE¼NW¼, S½NW¼, S½;

Sec. 36, All.

T. 35 N., R. 53 E.,

Sec. 4, Lots 1-4, S½N½, S½S½;

Sec. 6, Lots 1-3, 6, 7, S½NE¼, SE¼NW¼, E½SW¼, SE¼;

Sec. 8, All;

Sec. 16, All;

Sec. 18, Lots 1, 3, 4, E½, E½W½.

T. 36 N., R. 53 E.,

Sec. 32 All.

1. At 9 a.m. on June 18, 2001, the land described above will be opened to the operation of the public land laws generally, subject to valid existing rights, the provision of existing withdrawals, other segregations of record, and the requirements of applicable law.

2. At 9 a.m. on June 18, 2001, the land described above will be opened to location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (1988), shall vest no rights against the United States. Acts required to establish a location and to initiate a right of possession are governed by State law where not in conflict with Federal law. The Bureau of Land Management will not intervene in disputes between rival locators over possessory rights since Congress has provided for such determinations in local courts.

Helen Hankins,
Elko Field Office Manager.

[FR Doc. 01-12408 Filed 5-16-01; 8:45 am]

BILLING CODE 4310-HC-P